FEDERAL COMMUNICATIONS COMMISSION

Information Collection Requirement Submitted to the Office of Management and Budget (OMB) for Emergency Review and Approval

AGENCY: Federal Communications Commission.

ACTION: Notice and request for comments.

SUMMARY: The Federal Communications Commission (FCC), as part of its continuing effort to reduce paperwork burdens, invites the general public and other Federal agencies to take this opportunity to comment on the following information collection, as required by the Paperwork Reduction Act (PRA) of 1995. Comments are requested concerning whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before February 19, 2013. If you anticipate that you will be submitting comments, but find it difficult to do so within the period of time allowed by this notice, you should advise the contact listed below as soon as possible.

ADDRESSES: Direct all PRA comments to Nicholas A. Fraser, OMB, via email at Nichlos_A._Fraser@omb.eop.gov or fact at (202) 395-5197, and to Cathy Williams, FCC, via email PRA@fcc.gov and to Cathy.Williams@fcc.gov.

FOR FURTHER INFORMATION CONTACT: For additional information about the information collection, contact Cathy Williams at (202) 418-2918.

SUPPLEMENTARY INFORMATION: The Commission is requesting emergency OMB processing of the information collection requirement(s) contained in this notice and has requested OMB approval 30 days after the collection is received at OMB. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

OMB Control Number: 3060-xxxx.

Title: Section 64.604(c)(9), Emergency Interim Rule for Registration and Documentation of Disability for Eligibility to Use IP Captioned Telephone Service, CG Docket Nos. 13-24 and 03-123.

Form Number: N/A.

Type of Review: New collection.

Respondents: Business or other for-profit entities; individuals or households.

Annual Number of Respondents and Responses: 12,004 respondents; 24,000 responses.

Estimated Time per Response: 30 minutes (.50 hours) to 1 hour.

Frequency of Response: On-going reporting requirement; One-time reporting requirement; Third party disclosure requirement.

Obligation to Respond: Required to obtain or retain benefits. The statutory authority for this information collection is Sec. 225 [47 U.S.C. 225] Telecommunications Services for Hearing-Impaired and Speech-Impaired Individuals; The Americans with Disabilities Act of 1990 (ADA), Public Law 101-336, 104 Stat. 327, 366-69, enacted on July 26, 1990.

Total Annual Burden: 18,000 hours.

Total Annual Cost: $600,000.

Nature and Extent of Confidentiality: An assurance of confidentiality is not offered because this information collection does not require the collection of personally identifiable information (PII) from individuals.

Privacy Impact Assessment: No impact(s).

Needs and Uses: In the Emergency Interim Order (IP CTS Interim Order) the Commission finds good cause to adopt on an emergency basis interim rules requiring each Internet Protocol Captioned Telephone Service (IP CTS) provider, in order to be eligible for compensation from the Interstate Telecommunications Relay Service (TRS) Fund (Fund) for providing service to each new IP CTS user to register each new IP CTS user. As part of the registration process, each IP CTS provider must obtain from each user a self-certification that (1) the user has a hearing loss that necessitates IP CTS to communicate in a manner that is functionally equivalent to communication by conventional voice telephone users; (2) the user understands that the captioning service is provided by a live communications assistant (CA); and (3) the user understands that the cost of the IP CTS calls is funded by the TRS Fund. Where the consumer accepts IP CTS equipment at a price below $75 from any source other than a governmental program, the IP CTS provider must also obtain from the user a certification from an independent, third-party professional attesting to the same. IP CTS providers are required to maintain the confidentiality of the registration and certification information that they obtain, as well as the content of such information, except as required by law. The Commission takes this action to prevent the unnecessary subscription to and use of the service by consumers without a hearing loss that necessitates the use of IP CTS to obtain functionally equivalent telephone service. If left unchecked, the TRS Fund that disburses to IP CTS providers may be compromised due to an unprecedented growth in new IP CTS consumers. The action taken in this IP CTS Interim Order will enable the Commission to better control the level of TRS disbursements and protect the programmatic, legal, and financial integrity of the TRS program. Conversely, failing to take immediate action to stem such practices could well threaten the availability of the IP CTS service and other relay services that are supported by the Fund for the benefit of legitimate users.

The interim rules requiring providers to register and obtain certification from each new user will become effective upon publication in the Federal Register of a notice announcing the approval of such requirements by the Office of Management and Budget under the Paperwork Reduction Act of 1995. The interim rules will sunset on a common date, which is 180 days after the effective date for the interim rules on registration and certification or on the effective date of final rules on these issues, whichever date comes sooner.

Federal Communications Commission.
Marlene H. Dortch,
Secretary.

[FR Doc. 2013-02371 Filed 2-1-13; 8:45 am]

BILLING CODE 6712-01-P